DEPARTMENT OF TRANSPORTATION

Federal Aviation Administration

Notice of Intent To Rule on Application 04-03-C-00-CID to Impose and Use the Revenue From a Passenger Facility Charge (PFC) at the Eastern Iowa Airport, Cedar Rapids, IA

AGENCY: Federal Aviation Administration (FAA), DOT.

ACTION: Notice of intent to rule on application.

SUMMARY: The FAA proposes to rule and invites public comment on the application to impose and use the revenue from a PFC at the Eastern Iowa Airport under the provisions of the Aviation Safety and Capacity Expansion Act of 1990 (Title IX of the Omnibus Budget Reconciliation Act of 1990) (Public Law 101-508) and part 158 of the Federal Aviation Regulations (14 CFR part 158).

DATES: Comments must be received on or before January 8, 2004.

ADDRESSES: Comments on this application may be mailed or delivered in triplicate to the FAA at the following address: Federal Aviation Administration, Central Region, Airports Division, 901 Locust Street, Kansas City, MO 64106.

In addition, one copy of any comments submitted to the FAA must be mailed or delivered to Mr. Lawrence K. Mullendore, Airport Director, at the following address: The Eastern Iowa Airport, 2515 Wright Brothers Blvd. W, Cedar Rapids, Iowa 52404.

Air carriers and foreign air carriers may submit copies of written comments previously provided to the Eastern Iowa Airport, Cedar Rapids, Iowa, under section 158.23 of part 158.

FOR FURTHER INFORMATION CONTACT: Nicoletta S. Oliver, Airports Compliance Specialist, FAA, Central Region, 901 Locust Street, Kansas City, MO 64106, (816) 329-2642. The application may be reviewed in person at this same location.

SUPPLEMENTARY INFORMATION: The FAA proposes to rule and invites public comment on the application to impose and use the revenue from a PFC at the Eastern Iowa Airport under the provisions of the Aviation Safety and Capacity Expansion Act of 1990 (Title IX of the Omnibus Budget Reconciliation Act of 1990) (Public Law 101-508) and part 158 of the Federal Aviation Regulations (14 CFR part 158).

On December 2, 2003, the FAA determined that the application to impose and use the revenue from a PFC submitted by the Cedar Rapids Airport Commission, was substantially complete within the requirements of section 158.25 of part 158. The FAA will approve or disapprove the application, in whole or in part, no later than February 26, 2004.

The following is a brief overview of the application.

Level of the proposed PFC: $4.50.

Proposed charge effective date: March 2004.

Proposed charge expiration date: July 2006.

Total estimated PFC revenue: $4,182,615.

Brief description of proposed project(s): Acquire two snow removal end loaders; Rehabilitate Runway 13/31; Extend south end of Runway 13/31; Improve north end of Runway 13/31 safety area and relocate road; Extend north end of Runway 13/31 and construct Taxiway F connection; Improve east end of Runway 9/27 safety area; Reconstruct T-hangar taxiways and general aviation aprons; Construct runway and taxiways overlay; Construct cargo ramp expansion (Phase I); Construct terminal and cargo ramp expansion and rehabilitation (Phase (II); Construct cargo apron; Rehabilitate cargo apron (Phase III); and Rehabilitate cargo apron (Phase IV).

Any person may inspect the application in person at the FAA office listed above under FOR FURTHER INFORMATION CONTACT.

In addition, any person may, upon request, inspect the application, notice and other documents germane to the application in person at the Eastern Iowa Airport, Cedar Rapids, Iowa.

Issued in Kansas City, Missouri on December 2, 2003.
George A. Hendon,
Manager, Airports Division Central Region.

[FR Doc. 03-30465 Filed 12-8-03; 8:45 am]

BILLING CODE 4910-13-M